DEPARTMENT OF LABOR

Employment and Training Administration

[TA-W-71,731]

Valentine Tool and Stamping, Inc.: Norton, MA; Notice of Termination of Investigation

Pursuant to Section 223 of the Trade Act of 1974, as amended, an investigation was initiated on July 20, 2009 in response to a worker petition filed by a company official on behalf of workers of Valentine Tool and Stamping, Inc., Norton, Massachusetts.

The petitioner has requested that the petition be withdrawn. Consequently, the investigation has been terminated.

Signed in Washington, DC, this 9th day of March, 2010.
Del Min Amy Chen
Certifying Officer, Division of Trade Adjustment Assistance.

[FR Doc. 2010-6923 Filed 3-29-10; 8:45 am]

BILLING CODE 4510-FN-P